DEPARTMENT OF AGRICULTURE

Animal and Plant Health Inspection Service

[Docket No. APHIS-2022-0055]

Notice of Availability of a Draft Programmatic Environmental Impact Statement for Outbreak Response Activities for Highly Pathogenic Avian Influenza Outbreaks in Poultry in the United States and U.S. Territories

AGENCY: Animal and Plant Health Inspection Service, USDA.

ACTION: Notice of availability.

SUMMARY: We are advising the public that a draft programmatic environmental impact statement (EIS) has been prepared by the Animal and Plant Health Inspection Service relative to our response activities to highly pathogenic avian influenza (HPAI) outbreaks in commercial and backyard poultry operations located throughout the United States, including the U.S. territories. The draft EIS analyzes and compares the potential environmental effects of using three action alternatives during an HPAI outbreak. We are making this draft programmatic EIS available to the public for review and comment.

DATES: We will consider all comments that we receive on or before September 30, 2024.

ADDRESSES: You may submit comments by either of the following methods:

• Federal eRulemaking Portal: Go to www.regulations.gov. Enter APHIS-2022-0055 in the Search field. Select the Documents tab, then select the Comment button in the list of documents.

• Postal Mail/Commercial Delivery: Send your comment to Docket No. APHIS-2022-0055, Regulatory Analysis and Development, PPD, APHIS, Station 3A-03.8, 4700 River Road, Unit 118, Riverdale, MD 20737-1238.

The draft programmatic EIS and any comments we receive on this docket may be viewed at www.regulations.gov or in our reading room, located in Room 1620 of the USDA South Building, 14th Street and Independence Avenue SW, Washington, DC 20250. Normal reading room hours are 8 a.m. to 4:30 p.m., Monday through Friday, except holidays. To be sure someone is there to help you, please call (202) 799-7039 before coming.

FOR FURTHER INFORMATION CONTACT: Ms. Chelsea Bare, Chief of Staff, Veterinary Services, APHIS, U.S. Department of Agriculture, 1400 Independence Avenue SW, Whitten Building Room 318-E, Washington, DC 20250; chelsea.j.bare@usda.gov; (515) 337-6128.

SUPPLEMENTARY INFORMATION: The Secretary of Agriculture is authorized to protect the health of livestock, including poultry, in the United States by preventing the introduction and interstate spread of serious diseases and pests of livestock, and for eradicating such diseases within the United States when feasible (7 U.S.C. 8301-8322). This authority has been delegated to the United States Department of Agriculture (USDA), Animal and Plant Health Inspection Service (APHIS), Veterinary Services (VS).

Highly pathogenic avian influenza (HPAI) is one such serious disease of livestock. In February of 2004, the first outbreak of HPAI in the United States in 20 years occurred in Texas. Since then, HPAI outbreaks in poultry have continued to occur across the United States and impact commercial poultry facilities and backyard flocks.

USDA APHIS VS works closely with States, Tribes, and the poultry industry to prevent HPAI from becoming established in the U.S. poultry population. Once established, HPAI rapidly spreads within and between flocks and can cause severe, painful conditions, including hemorrhaging and neurologic conditions, widespread organ failure, and high mortality. Keeping our nation's poultry operations free from HPAI helps protect the poultry industry, farmers' livelihoods, the availability of poultry for U.S. consumers, international trade, the health of wild birds, and the health of people who are in close, regular contact with poultry. While HPAI is extremely infectious and fatal in poultry, the risks from HPAI infections to humans are low.

USDA APHIS VS has prepared a programmatic environmental impact statement (EIS) to analyze the potential environmental impacts associated with action alternatives taken during an HPAI outbreak in poultry. The chosen alternative must (1) detect, control, and contain HPAI in poultry as quickly as possible; (2) eradicate the HPAI virus using strategies that protect public health and the environment, and stabilize animal agriculture, the food supply, and the economy; and (3) provide science- and risk-based approaches and systems to facilitate continuity of business for non-infected animals and non-contaminated animal products. The findings of the programmatic EIS will be used to support HPAI planning and decision making and enhance the decisionmakers' ability to protect the environment and human health. USDA APHIS VS may use information presented in this EIS to promptly fulfill its National Environmental Policy Act (NEPA) obligations. The EIS also informs the public about the potential environmental effects of HPAI outbreak response activities.

The draft programmatic EIS presents the purpose and need for the action, a description of the affected environment, and an analysis of potential environmental impacts of three alternative actions: (1) No Federal Operational Assistance Alternative; (2) Federal Operational Assistance (No Action) Alternative; and (3) Federal Operational Assistance with Biosecurity Incentive Alternative (Preferred Alternative). The three alternatives considered in the programmatic EIS have been determined reasonable for USDA APHIS VS to carry out its mission to eradicate HPAI.

Under the No Federal Operational Assistance Alternative, State and local authorities, Tribes, and poultry owners and producers would be responsible for depopulating HPAI-infected flocks, disposing of carcasses and other potentially HPAI-contaminated materials, and managing any necessary transportation, cleanup and disinfection. USDA APHIS VS would not be involved in managing, overseeing, and/or actively implementing any of these operational activities. Upon request from the States, Tribes, or poultry owners and producers, USDA APHIS VS would provide technical guidance (e.g., recommendations, issuance of guidance documents) about surveillance testing to owners and producers of commercial and backyard flocks that are not experiencing signs of clinical illness to determine if infections of the virus have occurred. USDA APHIS VS may provide indemnity and/or financial compensation.

Under the Federal Operational Assistance Alternative, USDA APHIS VS would conduct all activities as described under the No Federal Operational Assistance Alternative. In addition, upon request from State, local, or Tribal authorities, USDA APHIS VS would provide operational assistance through managing, overseeing, and/or actively participating in depopulation, carcass disposal, and transportation. Cleaning and disinfection would be the responsibility of States, Tribes, and poultry owners and producers, as USDA APHIS VS does not perform these activities. USDA APHIS VS would also provide tools upon request, such as machinery and contracted operators, for depopulation and disposal activities. The level of assistance USDA APHIS VS would provide will depend on the needs of the impacted State.

Under the Federal Operational Assistance with Biosecurity Incentive Alternative (Preferred Alternative), USDA APHIS VS would provide all the same support and assistance described under the Federal Operational Assistance Alternative. In addition, USDA APHIS VS may choose to incentivize poultry owners and producers, via qualifying their eligibility for indemnity or compensation, to implement biosecurity measures that may mitigate the risk of HPAI infection and reinfection on poultry premises within an outbreak Control Area. This alternative would incentivize compliance with the written biosecurity plan for all commercial poultry producers. Under this alternative, USDA APHIS VS may require various types of in-person or virtual audits to verify that appropriate biosecurity plans are in place as conditions for indemnity and/or compensation for HPAI.

The potential environmental impacts on the following resources are considered in the draft EIS: Soil, air, and water quality; vegetation health; humans (including effects on health and safety, the economy, equity and environmental justice, cultural and historic resources, children's health, and Tribes); wildlife health, including birds of conservation concern, eagles, and threatened and endangered species. The draft programmatic EIS also considers the impacts of HPAI outbreak response activities on climate change, the impacts of climate change on HPAI outbreak response activities, and the cumulative impacts from other past, present, and reasonably foreseeable future related actions. The primary HPAI outbreak response activities that will be the focus of the impacts section under each alternative are depopulation and disposal, as well as some discussion concerning transportation and cleaning and disinfection.

In general, the potential environmental impacts from the Federal Operational Assistance and Biosecurity Incentive Alternative are expected to result in similar or less environmental impacts than impacts under the No Federal Operational Assistance Alternative. Direct assistance from USDA APHIS VS would mean an additional level of expertise when making decisions and implementing actions. With Federal, State, and local authorities, Tribes, and poultry owners and producers all working together, it is more likely that the disease will be eradicated as rapidly as possible. A rigorous Federal response should incentivize the rapid reporting of HPAI incidents because it achieves disease eradication while providing relief to the poultry owners and producers, States and Tribes that may lack the resources to deal with the outbreaks in a timely manner. The benefit of completing HPAI virus eradication activities as fast as possible is that it would decrease the risk of HPAI spreading to nearby premises or to wild birds that may infect other flocks thereby thus preventing additional environmental impacts from future HPAI outbreaks and HPAI outbreak responses. Under the Federal Operational Assistance and Biosecurity Incentive Alternative, poultry suffering from HPAI should be minimized due to effective and efficient depopulation procedures being implemented with USDA APHIS VS assistance. Additionally, the assistance of USDA APHIS VS under the Federal Operational Assistance and Biosecurity Incentive Alternative is also expected to allow poultry owners and producers to resume business as rapidly as possible and likely more rapidly than under the No Federal Operational Assistance Alternative.

Impacts under the Federal Operational Assistance and Biosecurity Incentive Alternative may see the greatest reduction in impacts of all the alternatives. Requiring certain biosecurity measures as part of the outbreak response in order to receive indemnity and/or compensation may increase the chance of biosecurity measures being implemented by commercial poultry owners and producers. Under this alternative, increased biosecurity measures could decrease the chance of reinfections at the outbreak site or at surrounding premises resulting in a decrease in future HPAI outbreak response activities and their potential impacts over time.

Based on the draft programmatic EIS, USDA APHIS VS has concluded that the three alternatives will have minor impacts on soil, air, water quality, wildlife, and vegetation health if all appropriate Federal, State, and local laws and guidance are followed. Risk of HPAI infections to humans is low, with risks of injuries and psychological trauma to workers being a concern that is minimized by following appropriate guidelines. Under all alternatives, impacts to climate change would be relative to the biomass of poultry depopulated and carcasses disposed of, and the particular depopulation, disposal, and sanitation methods used.

After the public comment period ends, we will consider all comments received, revise the draft programmatic EIS to address these comments, as appropriate, and publish a notice of availability of the final programmatic EIS in the Federal Register.

The draft programmatic EIS was prepared in accordance with: (1) the National Environmental Policy Act (NEPA) of 1969, as amended (42 U.S.C. 4321 et seq.), (2) the Council on Environmental Quality's NEPA-implementing regulations (40 CFR parts 1500-1508), compliant with the July 2020 regulations, (3) USDA's NEPA-implementing regulations (7 CFR part 1b), and (4) USDA APHIS' NEPA-Implementing Procedures (7 CFR part 372).

Done in Washington, DC, this 5th day of August 2024.
Michael Watson,
Administrator, Animal and Plant Health Inspection Service.

[FR Doc. 2024-18156 Filed 8-15-24; 8:45 am]

BILLING CODE 3410-34-P